DEPARTMENT OF LABOR

Occupational Safety and Health Administration

Maritime Advisory Committee for Occupational Safety and Health (MACOSH)

AGENCY: Occupational Safety and Health Administration (OSHA), Labor.

ACTION: MACOSH meeting; Notice.

SUMMARY: The Maritime Advisory Committee for Occupational Safety and Health (MACOSH) was established under Section 7 of the Occupational Safety and Health (OSH) Act of 1970 to advise the Assistant Secretary of Labor for Occupational Safety and Health on issues relating to occupational safety and health in the maritime industries. The purpose of this Federal Register notice is to announce the Committee and workgroup meetings scheduled for April 27, 2010 and April 29, 2010.

DATES: The Shipyard and Longshore workgroups will meet on Tuesday, April 27, 2010, 8:30 a.m. to 4:30 p.m., and the Committee will meet on Thursday, April 29, 2010, from 8:30 a.m. to 4:30 p.m.

ADDRESSES: The Committee and workgroups will meet at the Newport Marriott Hotel, 25 America's Cup Avenue, Newport, RI 02840, ((401) 849-1000). Mail comments, views, or statements in response to this notice to Vanessa Welch, Office of Maritime, OSHA, U.S. Department of Labor, Room N-3609, 200 Constitution Avenue, NW., Washington, DC 20210; phone (202) 693-2080; fax (202) 693-1663.

FOR FURTHER INFORMATION CONTACT: For general information about MACOSH and this meeting, contact: Joseph V. Daddura, Director, Office of Maritime, OSHA, U.S. Department of Labor, Room N-3609, 200 Constitution Avenue, NW., Washington, DC 20210; phone: (202) 693-2067. Individuals with disabilities wishing to attend the meeting should contact Vanessa Welch at (202) 693-2080 no later than April 14, 2010, to obtain appropriate accommodations.

SUPPLEMENTARY INFORMATION: MACOSH meetings are open to the public. Interested persons are invited to attend the MACOSH meeting at the time and location listed above. The MACOSH agenda will include: An OSHA activities update; a review of the minutes from the previous meeting; and reports from each workgroup. MACOSH may also discuss the following topics based on the workgroup reports: Arc flash guidance; confined spaces and fall protection in commercial fishing; scaffolding and falls (29 CFR part 1915 subpart E); traffic lane and safety zone quick card; speed limits in marine terminals; container rail safety guidance; and stuck cone safety guidance.

Public Participation: Written data, views, or comments for consideration by MACOSH on the various agenda items listed above should be submitted to Vanessa Welch at the address listed above. Submissions received by April 14, 2010 will be provided to Committee members and will be included in the record of the meeting. Requests to make oral presentations to the Committee may be granted as time permits.

Authority: This notice was prepared under the direction of David Michaels, PhD, MPH, Assistant Secretary of Labor for Occupational Safety and Health, U.S. Department of Labor, 200 Constitution Avenue, NW., Washington, DC 20210, pursuant to sections 6(b)(1) and 7(b) of the Occupational Safety and Health Act of 1970 (29 U.S.C. 655(b)(1), 656(b)), the Federal Advisory Committee Act (5 U.S.C. App. 2), Secretary of Labor's Order 5-2007 (72 FR 31160), and 29 CFR part 1912.

Signed at Washington, DC, this 17th day of March 2010.
David Michaels,
Assistant Secretary of Labor for Occupational Safety and Health.

[FR Doc. 2010-6397 Filed 3-22-10; 8:45 am]

BILLING CODE 4510-26-P